DEPARTMENT OF ENERGY

Federal Energy Regulatory Commission

Combined Notice of Filings #1

Take notice that the Commission received the following electric rate filings:

Docket Numbers: ER10-3300-004.

Applicants: La Paloma Generating Company, LLC.

Description: La Paloma Generating Company, LLC Supplement to June 25, 2013 Triennial Updated Market Power Analysis for the Southwest Region.

Filed Date: 4/23/14.

Accession Number: 20140423-5198.

Comments Due: 5 p.m. ET 5/14/14.

Docket Numbers: ER14-271-001.

Applicants: El Paso Electric Company.

Description: Removal of Rate Schedule No. 112 Nonconforming Firm PTP Svc Agreement w/PNM to be effective 1/1/2014.

Filed Date: 4/24/14.

Accession Number: 20140424-5043.

Comments Due: 5 p.m. ET 5/15/14.

Docket Numbers: ER14-1761-000.

Applicants: American Electric Power Service Corporation.

Description: Notice of Cancellation of American Electric Power Service Corporation on Behalf of AEP Energy Partners, Inc.

Filed Date: 4/23/14.

Accession Number: 20140423-5205.

Comments Due: 5 p.m. ET 5/14/14.

Docket Numbers: ER14-1762-000.

Applicants: American Electric Power Service Corporation.

Description: Notice of Cancellation of American Electric Power Service Corporation on Behalf of CSW Energy Services, Inc.

Filed Date: 4/23/14.

Accession Number: 20140423-5206.

Comments Due: 5 p.m. ET 5/14/14.

Docket Numbers: ER14-1764-000.

Applicants: American Electric Power Service Corporation.

Description: Notice of Cancellation of American Electric Power Service Corporation on Behalf of the AEP Operating Companies.

Filed Date: 4/23/14.

Accession Number: 20140423-5208.

Comments Due: 5 p.m. ET 5/14/14.

Docket Numbers: ER14-1765-000.

Applicants: PJM Interconnection, L.L.C.

Description: Queue No. Z2-027; Original Service Agreement Nos. 3802 and 3803 to be effective 3/28/2014.

Filed Date: 4/24/14.

Accession Number: 20140424-5033.

Comments Due: 5 p.m. ET 5/15/14.

Docket Numbers: ER14-1766-000.

Applicants: American Electric Power Service Corporation.

Description: Notice of Cancellation of American Electric Power Service Corporation on behalf of CSW Operating Companies.

Filed Date: 4/24/14.

Accession Number: 20140424-5080.

Comments Due: 5 p.m. ET 5/15/14.

Docket Numbers: ER14-1767-000.

Applicants: Titan Gas and Power.

Description: MBR Tariff to be effective 6/23/2014.

Filed Date: 4/24/14.

Accession Number: 20140424-5138.

Comments Due: 5 p.m. ET 5/15/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 24, 2014.
Nathaniel J. Davis, Sr.,
Deputy Secretary.

[FR Doc. 2014-09974 Filed 4-30-14; 8:45 am]

BILLING CODE 6717-01-P